INTERNATIONAL TRADE COMMISSION

[Investigation No. 337-TA-1117]

Certain Full-Capture Arrow Rests and Components Thereof; Notice of Final Commission Determination of Violation; Issuance of a General Exclusion Order; Termination of the Investigation

AGENCY: U.S. International Trade Commission.

ACTION: Notice.

SUMMARY: Notice is hereby given that the U.S. International Trade Commission has terminated the above-captioned investigation with a finding of violation of section 337, and has issued a general exclusion order (“GEO”) directed against infringing full-capture arrow rests and components thereof. The Commission has terminated the investigation.

FOR FURTHER INFORMATION CONTACT: Clint Gerdine, Esq., Office of the General Counsel, U.S. International Trade Commission, 500 E Street SW, Washington, DC 20436, telephone (202) 708-2310. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on June 11, 2018, based on a complaint filed on behalf of Bear Archery, Inc. (“Bear Archery”) of Evansville, Indiana. 83 FR 27021-22 (June 11, 2018). The complaint alleges violations of section 337 based upon the importation into the United States, the sale for importation, and the sale within the United States after importation of certain full-capture arrow rests and components thereof by reason of infringement of certain claims of U.S. Patent No. 6,978,775 (“the '775 patent”). The Commission's notice of investigation named as respondents 2BULBS Technology Co. Ltd. of Jiangsu, China; Ningbo Linkboy Outdoor Sports Co., Ltd. of Zhejiang, China; Shenzhen Keepmyway Tech. Co., Ltd., Wenqing Zhang, Tingting Ye, and Tao Li, all of Guangdong, China; Zhengzhou IRQ Outdoor Sports Co., Ltd. of Henan, China; and Sean Yuan of Shandong, China. The Office of Unfair Import Investigations (“OUII”) is also a party to the investigation. All respondents in the investigation have been found in default. See Order No. 9 (Oct. 29, 2018), unreviewed by Comm'n Notice (Nov. 26, 2018).

On March 19, 2019, the presiding administrative law judge (“ALJ”) issued an initial determination (“ID”) granting Bear Archery's motion for summary determination of violation of section 337 by the defaulting respondents and request for issuance of a GEO. The ID finds that all defaulting respondents met the importation requirement and that Bear Archery satisfied the domestic industry requirement. See 19 U.S.C. 1337(a)(1)(B), (a)(2), and (a)(3). The ID also finds that a violation of section 337 has occurred based on its finding that each of the defaulting respondents' accused products infringe one or more of the asserted claims of the '775 patent as established by substantial, reliable, and probative evidence. The ID also contains the ALJ's recommended determination (“RD”) on remedy and bonding. The RD recommends issuance of a general exclusion order (“GEO”) with respect to the asserted '775 patent. No party petitioned for review of the ID.

On May 2, 2019, the Commission issued notice of its determination not to review the ID. 84 FR 20163-64 (May 8, 2019). On the same date, the Commission requested written submissions on the issues of remedy, the public interest, and bonding from the parties and interested non-parties. Id. On May 16, 2019, Bear Archery and OUII each filed a brief regarding remedy, the public interest, and bonding, and on May 23, 2019, OUII filed a reply brief.

The Commission has made its determination on the issues of remedy, the public interest, and bonding. The Commission has determined that the appropriate form of relief is a GEO prohibiting the unlawful entry of full-capture arrow rests and components thereof that infringe one or more of claims 1-2 and 32 of the '775 patent.

The Commission further determined that the public interest factors enumerated in section 337(g)(1) (19 U.S.C. 1337(g)(1)) do not preclude issuance of the GEO. Finally, the Commission determined that there shall be a bond in the amount of 100 percent of the entered value of the covered products during the period of Presidential review (19 U.S.C. 1337(j)). The Commission's order and opinion were delivered to the President and to the United States Trade Representative on the day of their issuance. The Commission has terminated the investigation.

The authority for the Commission's determination is contained in section 337 of the Tariff Act of 1930, as amended, 19 U.S.C. 1337, and in Part 210 of the Commission's Rules of Practice and Procedure, 19 CFR part 210.

By order of the Commission.
Issued: July 15, 2019.
Lisa Barton,
Secretary to the Commission.

[FR Doc. 2019-15327 Filed 7-18-19; 8:45 am]

BILLING CODE 7020-02-P